DEPARTMENT OF AGRICULTURE

Animal and Plant Health Inspection Service

[Docket No. APHIS-2015-0085]

Privacy Act of 1974; System of Records

AGENCY: Animal and Plant Health Inspection Service, USDA.

ACTION: Notice of a new system of records.

SUMMARY: Pursuant to the Privacy Act of 1974 and Office of Management and Budget Circular No. A-108, the U.S. Department of Agriculture (USDA) gives notice that a component agency, the Animal and Plant Health Inspection Service (APHIS) proposes to add a new system of records to its inventory of records. The system of records being proposed is the APHIS Plant Protection and Quarantine's Lacey Act Declaration Information Systems (LADIS), USDA/APHIS-24. The purpose of this system is enable businesses to file Lacey Act declarations. LADIS collects these records as part of an effort to combat illegal timber imports and to protect global natural resources. Under the Lacey Act, it is unlawful to import certain plants and plant products without an import declaration. The records in LADIS contain information regarding imported shipments, description of shipments, and the name and address of the importer and consignee.

DATES: In accordance with 5 U.S.C. 552a(e)(4) and (11), this notice will become applicable upon publication, subject to a 30-day notice and comment period in which to comment on the routine uses described in the “ROUTINE USES OF RECORDS MAINTAINED IN THE SYSTEM” section of this system of records notice. Please submit any comments by March 16, 2020.

ADDRESSES: You may submit comments by either of the following methods:

• Federal eRulemaking Portal: Go to: http://www.regulations.gov/#!docketDetail;D=APHIS-2015-0085.

• Postal Mail/Commercial Delivery: Send your comment to Docket No. APHIS-2015-0085, Regulatory Analysis and Development, PPD, APHIS, Station 3A-03.8, 4700 River Road Unit 118, Riverdale, MD 20737-1238.

Supporting documents and any comments we receive on this docket may be viewed at http://www.regulations.gov/#!docketDetail;D=APHIS-2015-0085 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For general questions, please contact Dr. Robert Baca, Assistant Director, Permitting and Compliance Coordination, Compliance and Environmental Coordination Branch, PPQ, APHIS, 4700 River Road Unit 150, Riverdale, MD 20737; (301) 851-2292. For Privacy Act questions concerning this system of records notice, please contact Ms. Tonya Woods, Director, Freedom of Information and Privacy Act Staff, 4700 River Road Unit 50, Riverdale, MD 20737; (301) 851-4076. For USDA Privacy Act questions, please contact the USDA Chief Privacy Officer, Information Security Center, Office of Chief Information Officer, USDA, Jamie L. Whitten Building, 1400 Independence Ave., SW, Washington, DC 20250; email: USDAPrivacy@ocio.usda.gov.

SUPPLEMENTARY INFORMATION: Pursuant to the provisions of the Privacy Act of 1974, as amended (5 U.S.C. 552a), notice is given that the Animal and Plant Health Inspection Service (APHIS) of the United States Department of Agriculture (USDA) is proposing to add a new system of records, titled Lacey Act Declaration Information Systems (LADIS), to maintain records of activities conducted by the agency pursuant to its mission and responsibilities authorized by the Lacey Act (16 U.S.C. 3371 et seq.).

LADIS supports the mission of the Lacey Act program in APHIS by providing to agency personnel information that can be used to assist with combatting illegal timber imports and protecting global natural resources. For formal customs entries, importers are required to submit a Lacey Act plant declaration based on products as listed on the implementation schedule of enforcement of Harmonized Tariff Schedule codes. The declaration information may be filed electronically through U.S. Customs and Border Protection's (CBP) Automated Commercial Environment (ACE) or through APHIS' Lacey Act Web Governance System (LAWGS) importer interface. (Using ACE or LAWGS, APHIS can more quickly review the declaration information for accuracy and completeness to assist APHIS in verifying that plants and plant products imported into the United States are legally harvested, sold, and transported.) ACE enables importers or brokers to file their declaration information when they file their customs entry information and enables them to correct erroneous data entries through the ACE system. LAWGS may also be used to file declaration information through the internet into a system owned and operated by APHIS. LAWGS enables APHIS to assist importers or brokers in correcting declaration information they filed through a notification option in the system. Alternatively, paper declaration forms may be submitted to APHIS by U.S. mail service to APHIS headquarters in Riverdale, MD.

LAWGS collects declaration information during a self-registration process through which APHIS customers and employees may obtain accounts as authorized users of APHIS services. Users will be able to securely generate and file the declaration form, and save it for their records electronically via the internet for future use.

The CBP ACE users will submit the Lacey Act declaration information using systems that are not owned or managed by APHIS. The users (importers or brokers) enter data required under the Act into to a set of fields or message set that was designed by APHIS to ensure all information is captured. The data is then moved to LADIS for storage by APHIS.

APHIS personnel use the information in LADIS to monitor compliance with the Lacey Act declaration requirement, identify trends in international trade, and alert other Federal enforcement agencies of unusual or suspicious activity. All individuals about whom information in this system is maintained voluntarily submit the information for the express purpose of participating in the program and will receive benefits equal to or greater than any potential impact on their privacy.

APHIS will share information from the system pursuant to the requirements of the Privacy Act and, in the case of its routine uses, when the disclosure is compatible with the purpose for which the information was compiled. A full list of routine uses is included in the routine uses section of the document published with this notice.

A report on the new system of records, required by 5 U.S.C. 552a(r), as implemented by Office of Management and Budget (OMB) Circular A-108, was sent to the Chairman, Committee on Homeland Security and Governmental Affairs, United States Senate; the Chairman, Committee on Oversight and Reform, House of Representatives; and the Administrator, Office of Information and Regulatory Affairs, OMB.

Done in Washington, DC, this 7th day of February 2020.
Kevin Shea,
Administrator, Animal and Plant Health Inspection Service.

SYSTEM NAME AND NUMBER:

Lacey Act Declaration Information System (LADIS), USDA/APHIS-24.

SECURITY CLASSIFICATION:

Unclassified.

SYSTEM LOCATION:

The master data for the Lacey Act Declaration Information System (LADIS) are stored and maintained electronically via the National Information Center (NITC) on a secure U.S. Department of Agriculture (USDA) owned and operated system at 8930 Ward Parkway, Kansas City, MO 64114. Paper declarations are securely maintained under the control of Plant Protection and Quarantine at 4700 River Road, Riverdale, MD 20737.

SYSTEM MANAGERS:

Lacey Act Program Manager, 4700 River Road Unit 150, Riverdale, MD 20737-1234; IT Project Manager, 4700 River Road Unit 144, Riverdale, MD 20737-1234; phone (301) 851-2021.

AUTHORITY FOR MAINTENANCE OF THE SYSTEM:

The Lacey Act, 16 U.S.C. 3372 et seq.

PURPOSES OF THE SYSTEM:

The Animal and Plant Health Inspection Service (APHIS) Lacey Act Declaration Information Systems (LADIS) is an online tool which enables the users (importers) to securely generate and file the declaration form, and save it for their records electronically via the internet for future use. LADIS also enables filers to save commonly used declaration data in templates for quick and easy future submissions. Filers are able to view, edit, and resubmit declarations they created. The forms, as physical hardcopy or electronic format, are used to obtain the information required by the Lacey Act. The declaration form contains the estimated date of arrival, shipment information, description of merchandise, scientific name of the plant, value, quantity of plant material, the name of the country from which the plant was taken. The form also contains the name and address of the importer and consignee to provide contact information for APHIS. APHIS uses this information to verify compliance with the declaration requirement and examine trends associated with imported plants and plant products.

The U.S. Customs and Border Protection (CBP) Automated Commercial Environment (ACE) users will submit the Lacey Act declaration information using systems not associated with APHIS. The data is then moved to LADIS by APHIS. LADIS enables the Plant Protection and Quarantine (PPQ) Lacey Act Program officials to review the submitted declaration for accuracy and completeness.

APHIS' Lacey Act Web Governance System (LAWGS) generates the declaration form containing all data collected in PDF format. The importer can file the electronic declaration form and print it for their records.

CATEGORIES OF INDIVIDUALS COVERED BY THE SYSTEM:

All individuals granted access to the LADIS are covered: (1) Employees and contractors of the USDA (“USDA personnel”); (2) other Government officials; and (3) business personnel. All individuals, even if they are not users of the LADIS, who are mentioned or referenced in any documents entered into LADIS by a user are also covered. This group may include, but is not limited to, plant workers, vendors, agents, consignees, importers of record, and brokers with a CBP power of attorney who import or aid in the importation of merchandise subject to the provisions of the Lacey Act.

CATEGORIES OF RECORDS IN THE SYSTEM:

LADIS collects, uses, disseminates and maintains records received from business personnel. They provide declaration information regarding the shipment details, entry information, Lacey Act compliance data, and contact information associated with the business.

The information includes the importer name, importer address, importer email address, consignee name, consignee address, the shipment estimated date of arrival, entry number, harmonized tariff code number, container number, bill of lading, manufacturing identification code, and description of merchandise. The compliance data includes the value, description of the article or component of the article, plant scientific name (genus and species), country of harvest, quantity of plant material, unit of measure, and percent of recycled plant material.

RECORD SOURCE CATEGORIES:

The information source is primarily provided by the importers or customs brokers, and Federal regulatory agencies. For formal customs entries, importers are required to submit a Lacey Act plant declaration consisting of the data elements on the Plant and Plant Product Declaration form via a paper form, or CBP's ACE, or APHIS' LAWGS importer interface.

ROUTINE USES OF RECORDS MAINTAINED IN THE SYSTEM, INCLUDING CATEGORIES OF USERS AND THE PURPOSES OF SUCH USES:

In addition to those disclosures generally permitted under 5 U.S.C. 552a(b) of the Privacy Act, records maintained in the system may be disclosed outside USDA as a routine use under 5 U.S.C. 552a(b)(3), as follows, to the extent that such disclosures are compatible with the purposes for which the information was collected:

(1) To other Federal enforcement agencies, including the U.S. Fish and Wildlife Service (Department of the Interior), U.S. Department of Justice, and including CBP and Homeland Security Investigations within the U.S. Department of Homeland Security, who will treat the data as law enforcement sensitive primarily for the purpose of enforcing the Lacey Act or the Convention on International Trade in Endangered Species of Wild Fauna and Flora (CITES);

(2) To other cooperating Federal, State, and local government officials, employees, or contractors, and other parties assisting in administering the Lacey Act program who will be bound by the nondisclosure provision of the Privacy Act and the Trade Secrets Act;

(3) To appropriate law enforcement agencies, entities, and persons, whether Federal, foreign, State, Tribal, local, or other public authority responsible for enforcing, investigating, or prosecuting an alleged violation or a violation of law or charged with enforcing, implementing, or complying with a statute, rule, regulation, or order issued pursuant thereto, when a record in this system on its face, or in conjunction with other records, indicates a violation or potential violation of law, whether civil, criminal, or regulatory in nature, and whether arising by general statute or particular program statute, or by regulation, rule, or court order issued pursuant thereto, if the information disclosed is relevant to any enforcement, regulatory, investigative, or prosecutive responsibility of the receiving entity;

(4) To the Department of Justice when: (a) USDA, or any component thereof; or (b) any employee of USDA in his or her official capacity where the Department of Justice has agreed to represent the employee; or (c) the United States Government, is a party to litigation or has an interest in such litigation, and by careful review, USDA determines that the records are both relevant and necessary to the litigation and the use of such records by the Department of Justice is therefore deemed by USDA to be for a purpose for which USDA collected the records;

(5) To a court or adjudicative body in a proceeding when: (a) USDA or any component thereof; or (b) any employee of USDA in his or her official capacity; or (c) any employee of USDA in his or her individual capacity where USDA has agreed to represent the employee; or (d) the United States Government, is a party to litigation or has an interest in such litigation, and by careful review, USDA determines that the records are both relevant and necessary to the litigation and the use of such records is therefore deemed by USDA to be for a purpose that is compatible with the purpose for which USDA collected the records;

(6) To appropriate agencies, entities, and persons when: (a) USDA suspects or has confirmed that the security or confidentiality of information in the system of records has been compromised; (b) USDA has determined that as a result of the suspected or confirmed breach there is a risk of harm to individuals, USDA (including its information systems, programs, and operations), the Federal Government, or national security; and (c) the disclosure made to such agencies, entities, and persons is reasonably necessary to assist in connection with USDA's efforts to respond to the suspected or confirmed compromise and prevent, minimize, or remedy such harm;

(7) To another Federal agency or Federal entity, when information from this system of records is reasonably necessary to assist the recipient agency or entity in (a) responding to a suspected or confirmed breach or (b) preventing, minimizing, or remedying the risk of harm to individuals, the agency (including its information systems, programs, and operations), the Federal Government, or national security;

(8) To a Congressional office in response to an inquiry made at the written request of the individual to whom the record pertains;

(9) To USDA contractors and other parties engaged to assist in administering the program, analyzing data, and conducting audits. Such contractors and other parties will be bound by the nondisclosure provisions of the Privacy Act;

(10) To USDA contractors, partner agency employees or contractors, or private industry employed to identify patterns, trends, or anomalies indicative of fraud, waste, or abuse; and

(11) To the National Archives and Records Administration (NARA) or to other Federal government agencies pursuant to records management activities being conducted under the authority of 44 U.S.C. 2904 and 2906.

POLICIES AND PRACTICES FOR STORAGE OF RECORDS:

Electronic records are maintained on the LADIS server at NITC in Kansas City, MO; and the backup server is at St. Louis, MO, on magnetic hard-disk. Paper records are temporarily maintained in a secured building which requires LincPass ID for entry. The Lacey Act Program will move the paper records to a separate, secure USDA building, under control of PPQ personnel, or in a National Archives and Records Administration-approved records storage facility until the records are no longer necessary for the conduct of business and the records are disposed of in accordance with an approved records disposition authority.

POLICIES AND PRACTICES FOR RETRIEVAL OF RECORDS:

Records are retrieved by importer or consignee name, entry number or unique LAWGS assigned identifier, manufacturer identification number, container number, and bill of lading. Users of the electronic systems can retrieve their own records in the systems by their name, entry or submission date, entry number, or unique LAWGS assigned identifier.

POLICIES AND PRACTICES FOR RETENTION AND DISPOSAL OF RECORDS:

APHIS records disposition authority from the National Archives and Records Administration allows for retention of records for at least 5 years, and records will then be disposed of in accordance with the authority granted.

ADMINISTRATIVE, TECHNICAL, AND PHYSICAL SAFEGUARDS:

Records, both paper and electronic, are only accessible to authorized personnel. The following physical security measures are in place to prevent outsiders from entering LADIS:

The electronic records are stored on secure file servers. To gain access to LAWGS, all users are required to have a USDA e-Authentication account. This a 2-step process where the user name identifies the user and the password authenticates that the user is in fact who he claims to be. On the Government side, PPQ Lacey Act Program officials who have level 2 e-Authentication can review, print, and analyze the data to meet program needs. Access to system data is granted to Lacey Act Program employees, administrators, and federal contractors, including help desk individuals to facilitate assisting system users. All APHIS officials and contractors must take the annual security awareness training provided by USDA.

LAWGS users are granted access to their own basic information. LAWGS users can use their account's user ID and password and can modify basic personal data such as address and email. Users can adjust the level of access and permissions within their own organization's account; however, users do not have access to modify sensitive data such as level of access and permissions associated with another account. Also, they cannot access the declaration information submitted by other users of the system.

System security measures in place to protect the safety and integrity of declaration information filed in ACE, including access controls, is administered by CBP. Neither importers nor brokers using ACE to file declaration information have access to the data stored in the LADIS database.

Paper files are kept in a safeguarded environment with controlled access only by authorized personnel. All APHIS personnel are required to go through a basic security clearance and are required to complete appropriate training to learn requirements for safeguarding records maintained under the Privacy Act.

USDA's NITC safeguards records and ensures privacy requirements are met in accordance with Federal cyber security mandates. NITC provides continuous storage management, security administration, regular dataset backups and contingency planning including disaster recovery.

RECORD ACCESS PROCEDURES:

An individual who is the subject of a record in this system may seek access to those records that are not exempt from the access provisions. Exemptions apply only to the extent that the information in the system is subject to exemption pursuant to 5 U.S.C. 552a(k)(2), if applicable. A determination whether a record may be accessed will be made at the time a request is received. All inquiries should be addressed under “Notification procedures.”

CONTESTING RECORD PROCEDURES:

Individuals seeking to contest or amend information maintained in the system should direct their requests to the address indicated in the “Notification procedures” section, below. Some information may be exempt from the amendment provisions, as described in the section entitled “Exemptions promulgated for the system.” An individual who is the subject of a record in this system may seek amendment of those records that are not exempt. A determination whether a record may be amended will be made at the time a request is received.

NOTIFICATION PROCEDURE:

Individuals seeking notification of and access to any record contained in this system of records, or seeking to contest its content, may submit a request in writing to the Headquarters or component's Freedom of Information Act (FOIA) Officer, whose contact information can be found at http://www.da.usda.gov/foia.htm under “contacts.” If an individual believes more than one component maintains Privacy Act records concerning him or her the individual may submit the request to the Chief FOIA Officer, Department of Agriculture, 1400 Independence Avenue SW, Washington, DC 20250.

When seeking records about yourself from this system of records or any other Departmental system of records your request must conform with the Privacy Act regulations set forth in 6 CFR part 5, you must first verify your identity, meaning that you must provide your full name, current address and date and place of birth. You must sign your request, and your signature must either be notarized or submitted under 28 U.S.C. 1746, a law that permits statements to be made under penalty of perjury as a substitute for notarization. While no specific form is required, you may obtain forms for this purpose from the Chief FOIA Officer, Department of Agriculture, 1400 Independence Avenue SW, Washington, DC 20250. In addition you should provide the following:

• An explanation of why you believe the Department would have information on you;

• Identify which component(s) of the Department you believe may have the information about you;

• Specify when you believe the records would have been created;

• Provide any other information that will help the FOIA staff determine which USDA component agency may have responsive records; and

• If your request is seeking records pertaining to another living individual, you must include a statement from that individual certifying his/her agreement for you to access his/her records.

Without this bulleted information the agency may not be able to conduct an effective search, and your request may be denied due to lack of specificity or lack of compliance with applicable regulations.

EXEMPTIONS CLAIMED FOR THE SYSTEM:

None.

HISTORY:

N/A.

[FR Doc. 2020-03007 Filed 2-13-20; 8:45 am]

BILLING CODE 3410-34-P